DEPARTMENT OF DEFENSE

Office of the Secretary

[Docket ID DOD-2019-OS-0009]

Proposed Collection; Comment Request

AGENCY: Defense Security Service (DSS) DoD.

ACTION: Information collection notice.

SUMMARY: In compliance with the Paperwork Reduction Act of 1995, the Defense Security Service (DSS) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 12, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Security Service (DSS), Industrial Security Integration and Application, Business Analysis and Mitigation Strategy Division, ATTN: Matthew Kitzman, 27130 Telegraph Rd., Quantico, VA 22134, or email at matthew.t.kitzman.civ@mail.mil.

SUPPLEMENTARY INFORMATION:

Title; Associated Form; and OMB Number: Outside Director/Proxy Holder for Private Contractors; (1) Outside Director/Proxy Holder Nominee Package, (2) Nominating Official Package, (3) Self-Assessment Form, (4) Peer Evaluation Form, (5) Group Assessment Form, (6) OD/PH Continuous Training Certificate; 0704-XXXX.

Needs and Uses: This information collection is necessary so that DSS can provide proper monitoring and oversight of companies with Foreign Ownership, Control, or Influence (FOCI), while those companies provide services on a U.S. government contract. In order to mitigate conflict of interest risks, DSS will designate Outside Director/Proxy Holder(s) (OD/PH) for the specified company. The OD/PH will be a cleared U.S. citizen who can ensure that the foreign owner is effectively insulated from the company in classified matters of the U.S. government. The overall intent of this collection is to prevent foreign interests from influencing the company's performance of classified contracts in matters of U.S. national security.

(1) Outside Director/Proxy Holder Nominee Package—This form is completed by the prospective OD/PH after being nominated to the position by the company board of directors. This form will provide DSS with the information necessary to assess whether the possible OD/PH possesses the qualifications and clearance level necessary to fulfill their role. This form consists of eight questions and must include the nominee's resume.

(2) Nominating Official Package—This form is completed by the company shareholder or proxy holder responsible for nominating the prospective OD/PH. It provides DSS with the information necessary to understand the particular reasons why an individual nominee was selected for placement on a FOCI Board. The form consists of five questions.

(3) Self-Assessment Form—This form is completed by OD/PH and Officer/Directors on an annual basis. It enables DSS to evaluate whether OD/PH and Officer/Directors are fulfilling the duties of his or her role effectively in accordance with the National Industrial Security Program. The form consists of six questions.

(4) Peer Evaluation Form—Every OD/PH and security advisor serving on a company's FOCI board completes this form on an annual basis to evaluate his or her peers (there are generally between one and seven personnel on a company's FOCI board). The information will assist DSS in evaluating whether an OD/PH is performing their duties in good faith and in a manner believed to be in the U.S. national interest and in the best interests of the company and company's shareholders. The form consists of six questions.

(5) Group Assessment Form—This form is completed by the company's Board of Directors and the Government Security Committee. It provides DSS with the information necessary to evaluate whether the collective group is acting in a manner consistent with a functioning corporate governance body, which is essential for the proper functioning and execution of corporate security controls and oversight. The form consists of three questions.

(6) OD/PH Continuous Training Certificate—provides DSS with information necessary to annually determine whether OD/PH have completed the necessary professional development units for continued approval to serve as an OD/PH.

Affected Public: Individuals or Households.

Annual Burden Hours: 4,050.

Number of Respondents: 1,800.

Responses per Respondent: 3.

Annual Responses: 5,400.

Average Burden per Response: 45 minutes.

Frequency: On occasion.

Dated: February 6, 2019.
Shelly E. Finke,
Alternate OSD Federal Register, Liaison Officer, Department of Defense.

[FR Doc. 2019-01805 Filed 2-8-19; 8:45 am]

BILLING CODE 5001-06-P